DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Pilot Project Assessing Economic Benefits of Marine Debris Removal.

OMB Control Number: None.

Form Number(s): NA.

Type of Request: Regular submission (request for a new information collection).

Number of Respondents: 1,320.

Average Hours Per Response: Primary survey, 20 minutes; non-response survey, 5 minutes.

Burden Hours: 410.

Needs and Uses: This request is for a new information collection.

Under the authority of the Marine Debris Research, Prevention, and Reduction Act (Marine Debris Act of 2012, 33 U.S.C. 1951 et seq., as amended by Title VI of Pub. L. 112-213), NOAA's Marine Debris Division (MDD) is conducting a pilot project designed to assess the economic benefits to beach visitors of marine debris removal. The project will use a revealed preference valuation approach (a random utility travel cost model) to assess benefits associated with marine debris removal at selected beaches in Southern California. The MDD intends to conduct a mail survey of Orange County, California households in order to gather beach trip data required to estimate the model. The pilot project will provide information for use in assessing and prioritizing future efforts to reduce or remove marine debris. The project will also lay the groundwork for additional research related to economic benefits, providing information about the types of marine debris that beach visitors are concerned about and about potential economic modeling challenges.

Affected Public: Individuals or households.

Frequency: One time.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW, Washington, DC 20230 (or via the Internet at JJessup@doc.gov).

Written comments and recommendations for the proposed information collection should be sent within 30 days of publication of this notice to OIRA_Submission@omb.eop.gov.

Dated: June 27, 2013.
Gwellnar Banks,
Management Analyst, Office of the Chief Information Officer.

[FR Doc. 2013-15939 Filed 7-2-13; 8:45 am]

BILLING CODE 3510-22-P